DEPARTMENT OF ENERGY

Revision of a Currently Approved Information Collection for the Weatherization Assistance Program

AGENCY: Office of Energy Efficiency and Renewable Energy, U.S. Department of Energy.

ACTION: Notice and request for comments.

SUMMARY: The Department of Energy (DOE), pursuant to the Paperwork Reduction Act of 1995, intends to extend for three years a currently approved collection of information with the Office of Management and Budget (OMB). The information collection request, Weatherization Assistance Program, was previously approved on February 28, 2017 under OMB Control No. 1910-5127 and its current expiration date is February 29, 2020. The proposed collection will collect information on the status of Grantee activities, expenditures, and results, to ensure that program funds are being used appropriately, effectively, and expeditiously.

DATES: Comments regarding this collection must be received on or before March 16, 2020. If you anticipate that you will be submitting comments, but find it difficult to do so within the period of time allowed by this notice, please advise the OMB Desk Officer of your intention to make a submission as soon as possible. The Desk Officer may be telephoned at (202) 395-4650.

ADDRESSES: Written comments should be sent to the DOE Desk Officer, Office of Information and Regulatory Affairs, Office of Management and Budget, New Executive Office Building, Room 10102, 735 17th Street NW, Washington, DC 20503; and to Christine Askew, EE-5W, U.S. Department of Energy, 1000 Independence Ave. SW, Washington, DC 20585, Email: Christine.Askew@ee.doe.gov.

FOR FURTHER INFORMATION CONTACT: Requests for additional information or copies of the information collection instrument and instructions should be directed to:

Christine Askew, EE-5W, U.S. Department of Energy, 1000 Independence Ave. SW, Washington, DC 20585-1290, Phone: (202) 586-8224, Fax: (202) 287-1992, Email: Christine.Askew@ee.doe.gov.

SUPPLEMENTARY INFORMATION: Comments are invited on: (a) Whether the extended collection of information is necessary for the proper performance of the functions of the agency, including whether the information shall have practical utility; (b) the accuracy of the agency's estimate of the burden of the proposed collection of information, including the validity of the methodology and assumptions used; (c) ways to enhance the quality, utility, and clarity of the information to be collected; and (d) ways to minimize the burden of the collection of information on respondents, including through the use of automated collection techniques or other forms of information technology. This information collection request contains: (1) OMB No.: 1910-5127; (2) Information Collection Request Title: “Weatherization Assistance Program (WAP)”; (3) Type of Review: Revision of a Currently Approved Collection; (4) Purpose: To collect information on the status of grantee activities, expenditures, and results, to ensure that program funds are being used appropriately, effectively and expeditiously; per House Report 115-929, DOE will begin tracking the occurrence of window replacements, which supports the reduction of lead-based paint hazards in homes; (5) Annual Estimated Number of Respondents: 57; (6) Annual Estimated Number of Total Responses: 399; (7) Annual Estimated Number of Burden Hours: 1254; (8) Annual Estimated Reporting and Recordkeeping Cost Burden: $33,228.72.

Statutory Authority: Title V, National Historic Preservation Act of 1966, Pub. L. 89-665 as amended (16 U.S.C. 470 et seq.).

Signed in Washington, DC, February 5, 2020.
AnnaMaria Garcia,
Director, Weatherization and Intergovernmental Programs, Energy Efficiency and Renewable Energy.

[FR Doc. 2020-03015 Filed 2-13-20; 8:45 am]

BILLING CODE 6450-01-P